ENVIRONMENTAL PROTECTION AGENCY

40 CFR Part 13

[EPA-HQ-OA-2014-0012; FRL-9914-28-OCFO]

Administrative Wage Garnishment

AGENCY: Environmental Protection Agency (EPA).

ACTION: Proposed rule, extension of public comment period.

SUMMARY: The EPA is extending the period for providing comments on the proposed rule entitled, Administrative Wage Garnishment published in the Federal Register on July 2, 2014 to September 2, 2014.

DATES: Comments. The public comment period for the proposed rule published July 2, 2014, (79 FR 37704) is being extended to September 2, 2014 in order to provide the public additional time to submit comments and supporting information.

ADDRESSES: Comments. Written comments on the proposed rule may be submitted to the EPA electronically, by mail, by facsimile or through hand delivery/courier. Please refer to the proposal (79 FR 37704) for the addresses and detailed instructions.

Docket: Publically available documents relevant to this action are available for public inspection either electronically at http://www.regulations.gov or in hard copy at the Administrative Wage Garnishment Docket in the EPA Docket Center, EPA/DC, EPA West, Room 3334, 1301 Constitution Ave. NW., Washington, DC. The Public Reading Room is open from 8:30 a.m. to 4:30 p.m., Monday through Friday, excluding legal holidays. The telephone number for the Public Reading Room is 202-566-1744. The EPA has established the official public docket # EPA-HQ-OA-2014-0012.

FOR FURTHER INFORMATION CONTACT: FPPS c/o Anita Jones, OCFO/OFM/FPPS, Mailcode 2733R, Environmental Protection Agency, 1200 Pennsylvania Ave. NW., Washington, DC 20460; telephone number: (202) 564-4969; fax number: (202) 565-2585; email address: jones.anita@epa.gov.

SUPPLEMENTARY INFORMATION: In response to requests from the public, the EPA is extending the previously announced public-comment period. The public-comment period will end September 2, 2014, rather than August 1, 2014. The direct final rule published at 79 FR 37644 on July 2, 2014 was withdrawn. The withdrawal notice of the direct final rule was published in the Federal Register on Thursday, July 17, 2014 at 79 FR 41646.

List of Subjects in 40 CFR Part 13

Environmental protection, Administrative practice and procedure, Claims, Debt Collection, Government employees, Garnishment of wages, Hearing and appeal procedures, Salaries, Wages.

Authority: 5 U.S.C. 552a, 5512, and 5514; 31 U.S.C. 3711 et seq.; 3720A; and 3720D.

Dated: July 17, 2014.
Jeanne Conklin,
Acting Director Office of Financial Management.

[FR Doc. 2014-17322 Filed 7-22-14; 8:45 am]

BILLING CODE 6560-50-P